DEPARTMENT OF ENERGY

National Coal Council; Meeting

AGENCY: Office of Fossil Energy, Department of Energy.

ACTION: Notice of open meeting.

SUMMARY: This notice announces a virtual meeting of the National Coal Council (NCC) via WebEx. The Federal Advisory Committee Act requires that public notice of this meeting be announced in the Federal Register.

DATES: Tuesday, October 12, 2021; 2:30-3:30 p.m. (EST)

ADDRESSES: This will be a virtual meeting conducted through WebEx. If you wish to join the meeting you must register by close of business (5:00 p.m. EST) on Tuesday, October 5, 2021, by using the form available at the following URL: https://www.ncc.energy.gov/ncc/future-meetings. The email address you provide in the on-line registration form will be used to forward instructions on how to join the meeting using WebEx. WebEx requires a computer, web browser and an installed application (free). Instructions for joining the webcast will be sent to you two business days in advance of the meeting.

FOR FURTHER INFORMATION CONTACT: Thomas Sarkus, U.S. Department of Energy, National Energy Technology Laboratory, Mail Stop 920-125, P.O. Box 10940, Pittsburgh, PA 15236-0940; Telephone (412) 386-5981; email: thomas.sarkus@netl.doe.gov.

SUPPLEMENTARY INFORMATION: Purpose of the Council: The National Coal Council provides advice and recommendations to the Secretary of Energy on general policy matters relating to coal and the coal industry.

Purpose of Meeting: The National Coal Council (the Council) will hold a virtual meeting via webcast at 2:30-3:30 p.m. (EST) on October 12, 2021, for the purpose of reviewing and voting on the following report: “Carbon Forward: Advanced Markets for Value-Added Products from Coal.” The draft report is available online at the following URL: https://www.ncc.energy.gov/ncc/future-meetings.

Tentative Agenda

1. Call to order and opening remarks by Thomas Sarkus, NCC Deputy Designated Federal Officer, U.S. Department of Energy

2. Presentation, Q&A session, and vote on NCC report: “Carbon Forward: Advanced Markets for Value-Added Products from Coal.”

3. Public Comment Period and Closing Remarks

4. Adjourn

All attendees are requested to register in advance for the meeting at the following URL: https://www.ncc.energy.gov/ncc/future-meetings.

Public Participation: The meeting is open to the public. If you would like to file a written statement to be read during the virtual webcast, you may do so within three business days of the event. Please email your written statement to Thomas Sarkus at thomas.sarkus@netl.doe.gov by 5:00 p.m. (EST) on Thursday, October 7, 2021. If you would like to make an oral statement during the call regarding the report being reviewed, you must both register to attend the webcast and also contact Thomas Sarkus, (412) 386-5981, or thomas.sarkus@netl.doe.gov to state your desire to speak. You must make your request for an oral statement at least three calendar days before the meeting. Reasonable provision will be made to include oral statements at the conclusion of the meeting. However, those who fail to register in advance may not be accommodated. Oral statements are limited to 2-minutes per organization and per person.

Minutes: A recording of the call will be posted on the Council's website: https://www.ncc.energy.gov/ncc/.

Signed in Washington, DC, on September 13, 2021.
LaTanya Butler,
Deputy Committee Management Officer.

[FR Doc. 2021-20118 Filed 9-16-21; 8:45 am]

BILLING CODE 6450-01-P